DEPARTMENT OF COMMERCE

National Oceanic and Atmospheric Administration

50 CFR Part 660

[ID. 091702C]

Fisheries Off West Coast States and in the Western Pacific;Pacific Coast Groundfish Fishery; Application for an Exempted Fishing Permit

AGENCY: National Marine Fisheries Service (NMFS), National Oceanic and Atmospheric Administration (NOAA), Commerce.

ACTION: Notice of receipt of an application for an exempted fishing permit, request for comments.

SUMMARY: NMFS announces receipt of an application for an exempted fishing permit (EFP) from the California Department of Fish and Game. This EFP application applies to vessels with valid California State delivery permits fishing for flatfish with small footrope trawl gear in Federal waters off the state of California. If awarded, the EFP would allow vessels with a Federal limited entry permit to land federally managed groundfish species in excess of cumulative trip limits and to sell flatfish catch for profit, provided that the vessels carry state-sponsored observers. Observers would collect data that are otherwise not available shoreside. This EFP proposal is intended to promote the objectives of the Pacific Coast Groundfish Fishery Management Plan (FMP) by providing data that can be used to enhance management of the groundfish fishery.

DATES: Comments must be received by October 15, 2002.

ADDRESSES: Copies of the EFP application are available from Becky Renko, Northwest Region, NMFS, 7600 Sand Point Way N.E., Bldg. 1, Seattle, WA 98115-0070.

FOR FURTHER INFORMATION CONTACT: Becky Renko (206)526-6140.

SUPPLEMENTARY INFORMATION: This action is authorized by the FMP and implementing regulations at 50 CFR 600.745 and 50 CFR 660.350.

If awarded, the EFP would allow vessels with a Federal limited entry permit to land federally managed groundfish species in excess of cumulative trip limits and to sell flatfish catch for profit, provided that these vessels carry state-sponsored observers. Observers would collect data that are otherwise not available shoreside.

This exempted fishing activity is designed to measure bycatch rates of shelf rockfish species taken with small footrope trawl gear used to target flatfish in Federal waters off the State of California. Fishing would be restricted to areas outside of 3 miles and in less than 70 fathoms (130 meters) of water. Flatfish catch under this EFP will be limited to 70,000 lb (31,752 kg) per month. No more than 40,000 lb (18,144 kg) per month may be species other than Pacific sand dab, English sole, rock, and sand sole, or unspecified flatfish. Of the 40,000 lb (18,144 kg) per month, no more than 15,000 lb (6,804 kg) may be petrale sole. All groundfish caught under this EFP would be counted against the OYs for those species and so will not result in total harvest above expected levels. Because the bocaccio rockfish OY has not been taken (67 FR 44778, July 5, 2002) special provisions will be necessary to assure that the EFP is ended if more than negligible amounts of bocaccio rockfish are taken.

If the EFP is issued, approximately 20 vessels would be eligible to participate, with up to 6 observers being deployed at one time.

Flatfish species are abundant and commercially important off California; however, the harvest of these species is constrained by efforts to rebuild overfished species, particularly bocaccio rockfish. Fishers believe that the flatfish fishery can be prosecuted without catching bocaccio rockfish and with a much lower shelf rockfish bycatch rate than is currently assumed.

Data collected during this project are expected to benefit the management of the groundfish fishery by: (1) Providing information on catch rates of incidentally caught species by fishing location, (2) allowing for the collection of biological data that is otherwise not available from landed catch, and (3) providing data that can be used to evaluate the full retention of rockfish as a management approach. The information gathered through this EFP may lead to future rulemaking.

NMFS determined that the proposal warranted further consideration and, therefore, consulted with the Pacific Fishery Management Council (Council). The Council considered the EFP application during its June and September 2002, meetings and recommended that NMFS issue the EFP. NMFS intends to approve the EFP fishing for October through December 2002. The applicant also requested that the EFP be effective for the months of May through October 2003. However, decisions regarding the issuance of EFPs for 2003 will be made following the Council's October-November 2002 meeting. A copy of the application is available for review from NMFS (see ADDRESSES).

Authority: 16 U.S.C. 1801 et seq.

Dated: September 23, 2002.
Virginia M. Fay,
Acting Director, Office of Sustainable Fisheries, National Marine Fisheries Service.

[FR Doc. 02-24514 Filed 9-26-02; 8:45 am]

BILLING CODE 3510-22-S